DEPARTMENT OF JUSTICE

[OMB Number 1103—NEW]

Office of Community Oriented Policing Services; Agency Information Collection Activities; Proposed New Collection; Comments Requested; Drug Endangered Children Tracking System User Survey

ACTION: 30-Day Notice.

The Department of Justice (DOJ) Office of Community Oriented Policing Services (COPS) will be submitting the following information collection request to the Office of Management and Budget (OMB) for review and approval in accordance with the Paperwork Reduction Act of 1995. This notice was previously published in the Federal Register Volume 78, Number 226, on November 22, 2013, allowing a 60 day comment period.

The purpose of this notice is to allow for an additional 30 days for public comment until March 5, 2014. This process is conducted in accordance with 5 CFR 1320.10.

If you have comments, especially on the estimated public burden or associated response time, suggestions, or need a copy of the proposed information collection instrument with instructions or additional information, please contact Danielle Ouellette, Department of Justice Office of Community Oriented Policing Services, 145 N Street NE., Washington, DC 20530.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Proposed new collection; comments requested.

(2) Title of the Form/Collection: Drug Endangered Children Tracking System User Survey.

(3) Agency form number, if any, and the applicable component of the Department sponsoring the collection: None. U.S. Department of Justice Office of Community Oriented Policing Services.

(4) Affected public who will be asked or required to respond, as well as a brief abstract: System users, both law enforcement and child welfare workers, will be asked to provide customer service feedback regarding the Colorado Alliance for Drug Endangered Children Tracking System (DECSYS). Through a cooperative agreement with the COPS Office, the Colorado Alliance for Drug Endangered Children will gather this feedback in order to assess how agencies are using DECSYS, what training is being provided, challenges, and many other factors.

(5) An estimate of the total number of respondents and the amount of time estimated for an average respondent to respond/reply:

(6) It is estimated that 50 respondents annually will complete the form in approximately 10 minutes (.17 hours).

(7) An estimate of the total public burden (in hours) associated with the collection: There are an estimated 8.5 total annual burden hours associated with this collection.

If additional information is required contact: Jerri Murray, Department Clearance Officer, United States Department of Justice, Justice Management Division, Policy and Planning Staff, Two Constitution Square, 145 N Street NE., Room 1407B, Washington, DC 20530.

Dated: January 28, 2014.
Jerri Murray,
Department Clearance Officer for PRA, U.S. Department of Justice.

[FR Doc. 2014-02090 Filed 1-31-14; 8:45 am]

BILLING CODE 4410-AT-P